DEPARTMENT OF HEALTH AND HUMAN SERVICES

Health Resources and Services Administration

Privacy Act of 1974; Deletion of an Existing System of Records

AGENCY: Department of Health and Human Services (HHS), Health Resources and Services Administration (HRSA).

ACTION: Notice to delete an existing HRSA system of records (SOR).

SUMMARY: In accordance with the requirements of the Privacy Act of 1974, HRSA is deleting an existing system of records titled Record of Patient's Personal Valuables and Monies, HRSA SOR #09-15-0002, established at Vol. 59, No. 61 Federal Register pp 6854-6, December 28, 1994.

DATES: Effective Date: The deletion will be effective on April 14, 2011.

ADDRESSES: The public should address comments to Associate Administrator, Health Resources and Services Administration, 5600 Fishers Lane, Room 17-105, Rockville, Maryland 20857, Telephone number 301-594-4110. Comments received will be available for review at this location, by appointment, during regular business hours, Monday through Friday from 9 a.m. to 3 p.m., Eastern Time Zone.

SUPPLEMENTARY INFORMATION: HRSA's Bureau of Primary Health Care's National Hansen's Disease Program (NHDP) located in Baton Rouge, Louisiana, formerly leased hospital space where the elderly Hansen's disease resident patients resided. The purpose of this System of Records was to provide for the safekeeping of those residents' valuables as needed. In September 2009, when the hospital lease expired, those Hansen's disease residents were relocated to a nursing home facility; therefore, this system of records is no longer required.

Dated: March 31, 2011.
Mary K. Wakefield,
Administrator.

[FR Doc. 2011-9112 Filed 4-13-11; 8:45 am]

BILLING CODE 4165-15-P